Title 3—

The President

Memorandum of February 2, 2023

Supporting Access to Leave for Federal Employees

Memorandum for the Heads of Executive Departments and Agencies

By the authority vested in me as President by the Constitution and the laws of the United States of America, and in order to strengthen the Federal Government as a model “employer, it is hereby ordered as follows:

Section 1. Policy. Workers must have access to paid leave when they face a medical or caregiving need that affects their ability to work. Yet, the United States is one of the few countries in the world that does not guarantee paid leave—and 92 percent of the Nation's lowest wage workers, who are disproportionately women and workers of color, lack access to paid family leave through their employer. Lack of access to paid family and medical leave can risk the health, well-being, and economic security of workers and their families. Paid leave policies benefit both employees and employers and will strengthen our economy as a whole. That is why my Administration supports a national, comprehensive paid family and medical leave program that will ensure that workers have access to paid leave to bond with a new child; care for a seriously ill loved one; deal with a loved one's military deployment; heal from the worker's own serious illness; grieve the death of a loved one; or seek safety and recover from domestic violence, dating violence, sexual assault, or stalking. In addition to recognizing the importance of access to paid leave, my Administration acknowledges that unpaid leave can serve as a critical stopgap, allowing individuals to maintain their employment while attending to family or medical needs.

As the Nation's largest employer, the Federal Government must be a model for providing leave policies, both paid and unpaid, that allow employees time away from work to care for themselves or a loved one. Being a model employer includes updating our workplace policies and practices to reflect the emerging needs of our workforce today and tomorrow. It also requires recognizing an employee's important caregiving relationships with family members, including extended family and other individuals with equivalent relationships. In addition, Federal employees need access to extended family and medical leave, particularly during their first year of Federal service when they may not have accrued sufficient leave and are not yet eligible for leave under the Family and Medical Leave Act of 1993. By supporting Federal employees' access to leave throughout their service, the Federal Government will strengthen its ability to recruit, hire, develop, promote, and retain our Nation's talent and address barriers to equal opportunity, especially with respect to women's participation in the Federal workforce.

Sec. 2. Supporting Federal Employees' Access to Leave Without Pay. (a) In furtherance of the policy set forth in section 1 of this memorandum, the heads of executive departments and agencies (agencies) are encouraged to consider providing leave without pay for Federal employees, as appropriate and consistent with applicable law, including in the following circumstances:

(i) to bond with a new child, to care for a family member with a serious health condition, to address an employee's own serious health condition, or to help manage family affairs when a family member is called to active duty, including during an employee's first year of service; and

(ii) bereavement after the death of a family member, including during an employee's first year of service.

(b) The Director of the Office of Personnel Management (OPM) and the Director of the Office of Management and Budget, through the Deputy Director for Management, shall support agencies in carrying out subsection (a) of this section.

(c) Agency heads, or their designees, shall inform the President, through the Assistant to the President and Director of the White House Gender Policy Council, on progress towards implementation of this memorandum within 1 year of its issuance.

Sec. 3. Supporting Federal Employees' Access to Paid and Unpaid Leave to Seek Safety and Recover from Domestic Violence, Dating Violence, Sexual Assault, or Stalking. Consistent with applicable law, the Director of OPM shall provide recommendations to the President, through the Assistant to the President and Director of the White House Gender Policy Council, within 180 days of the date of this memorandum, regarding actions OPM and agencies may take to support Federal employees' access to paid leave, such as sick leave, or leave without pay, for purposes related to seeking safety and recovering from domestic violence, dating violence, sexual assault, or stalking—including, for example, obtaining medical treatment (inclusive of mental health treatment), pursuing assistance from organizations that provide services to survivors, seeking relocation, or taking related legal action, as well as assisting a family member in engaging in any of these activities.

Sec. 4. General Provisions. (a) Nothing in this memorandum shall be construed to impair or otherwise affect:

(i) the authority granted by law to an executive department or agency, or the head thereof; or

(ii) the functions of the Director of the Office of Management and Budget relating to budgetary, administrative, or legislative proposals.

(b) This memorandum shall be implemented consistent with applicable law and subject to the availability of appropriations.

(c) This memorandum is not intended to, and does not, create any right or benefit, substantive or procedural, enforceable at law or in equity by any party against the United States, its departments, agencies, or entities, its officers, employees, or agents, or any other person.

(d) The Director of OPM is authorized and directed to publish this memorandum in the Federal Register.

THE WHITE HOUSE,

Washington, February 2, 2023

[FR Doc. 2023-02670

Filed 2-6-23; 8:45 am]

Billing code 6325-39-P